NUCLEAR REGULATORY COMMISSION

[Docket No. 40-2253]

Removal of the GSA Watertown, MA, Property From the Site Decommissioning Management Plan

AGENCY: Nuclear Regulatory Commission.

ACTION: Notice of site release and finding of no significant impact.

I. Introduction

This notice is to inform the public that the United States Nuclear Regulatory Commission (the Commission) is releasing the General Services Administration (GSA) Property in Watertown, MA, for unrestricted use and is removing the site from the Site Decommissioning Management Plan (SDMP) list. The site is managed by the U.S. Army Corps of Engineers (USACE), New England District. The property was formerly a part of the Watertown Arsenal used by the U.S. Army for munitions operations. In 1990, the Commission developed the SDMP program for sites that warranted special attention to ensure timely decommissioning. This list included the GSA Watertown site. Since being placed on the SDMP, large amounts of contaminated soil have been removed from the site. The USACE has supplied, and the Commission has reviewed, site characterization and dose assessment information, and the Commission has prepared an Environmental Assessment (EA).

II. EA Summary

The purpose of the proposed action is to release the GSA property in Watertown, MA, for unrestricted use and remove it from the SDMP. The USACE provided a final radiological status survey and performed a site-specific dose analysis to demonstrate the site meets the license termination criteria in subpart E of 10 CFR part 20. In addition, NRC staff conducted independent measurements of residual contamination remaining at the site.

III. Finding of No Significant Impact

The NRC staff has evaluated the USACE request, has reviewed the results of the final radiological survey, has performed confirmatory measurements throughout the site property, and has determined that the unrestricted release dose criteria in 10 CFR 20.1402 have been met. On the basis of the Environmental Assessment, the Commission concludes that the site is suitable for release for unrestricted use, and the GSA Watertown, MA, property is being removed from the SDMP. The staff has prepared the attached EA to support the proposed action. The NRC staff has concluded that the environmental impacts from the decision are expected to be insignificant and has determined not to prepare an Environmental Impact Statement for the proposed action.

IV. Further Information

The EA and documents related to the proposed action are available for inspection at NRC's Public Electronic Reading Room at http://www.nrc.gov/reading-rm/adams.html (ADAMS Accession No. ML032601000). These documents are also available for inspection and copying for a fee at the USNRC Region I Office, 475 Allendale Rd., King of Prussia, PA 19406. Any questions with respect to this action should be referred to Craig Z. Gordon, Decommissioning and Laboratory Branch, Division of Nuclear Material Safety, USNRC Region I, 475 Allendale Rd., King of Prussia, Pennsylvania 19406, telephone (610) 337-5216, fax (610) 337-5269.

Dated at King of Prussia, Pennsylvania, this 18th day of September, 2003.
For the Nuclear Regulatory Commission.
Ronald R. Bellamy,
Chief, Decommissioning & Laboratory Branch, Division of Nuclear Materials Safety, Region I.

[FR Doc. 03-24476 Filed 9-26-03; 8:45 am]

BILLING CODE 7590-01-P